DEPARTMENT OF COMMERCE

International Trade Administration

[Application No. 25-00001]

Export Trade Certificate of Review

ACTION: Notice of issuance of an Export Trade Certificate of Review to Insiglobex LLC, Application No. 25-00001.

SUMMARY: The Secretary of Commerce, through the Office of Trade and Economic Analysis (OTEA), issued an Export Trade Certificate of Review (Certificate) to Insiglobex LLC on July 14th, 2025.

FOR FURTHER INFORMATION CONTACT: Amanda Reynolds, Acting Director, OTEA, International Trade Administration, (202) 482-5131 (this is not a toll-free number) or email at etca@trade.gov.

SUPPLEMENTARY INFORMATION: Title III of the Export Trading Company Act of 1982 (15 U.S.C. 4011-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

A summary of the Certificate is as follows:

Applicant/Certificate Holder

• Insiglobex LLC.

Proposed Members (“Members”)

• None.

Export Trade

Products: All products.

Services: All services related to the export of Products.

Technology Rights: Technology rights, including, but not limited to, patents, trademarks, copyrights, and trade secrets, that relate to Products and Services.

Export Trade Facilitation Services (as They Relate to the Export of Products): Export Trade Facilitation Services, including but not limited to: professional services in the areas of government relations and assistance with state and federal export assistance programs; foreign trade and business protocol consulting; market research and analysis for international trade opportunities; marketing, advertising, and negotiations related to the sale and distribution of exported goods and services; joint ventures and strategic partnerships for international trade; shipping, logistics, and export management services; export licensing, documentation, and customs compliance services; insurance and financing solutions for exporters; trade show exhibitions; organizational development, and training for global export expansion; management and labor strategies for international operations; technology transfer and intellectual property commercialization; and transportation services and facilitating the formation of shippers' associations for cost-effective global trade.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

To engage in Export Trade in the Export Markets, Insiglobex may:

1. Provide and/or arrange for the provision of Export Trade Facilitation Services;

2. Engage in promotional and marketing activities and collect information on trade opportunities in the Export Markets and distribute such information to Suppliers;

3. Enter into exclusive and/or non-exclusive licensing and/or sales agreements with individual Suppliers for the export of Products and Services, and/or Technology Rights to Export Markets;

4. Enter into exclusive and/or non-exclusive agreements with distributors and/or sales representatives in Export Markets to facilitate international trade;

5. Negotiate, enter into, and/or manage licensing agreements for the export of Technology Rights;

6. Enter into contracts for shipping, logistics, and supply chain coordination to streamline export operations.

The effective date of the Certificate is July 14th, 2025, the date on which Insiglobex LLC's Certificate was issued.

Dated: July 30th, 2025.
Amanda Reynolds,
Acting Director, Office of Trade and Economic Analysis, International Trade Administration, U.S. Department of Commerce.

[FR Doc. 2025-14583 Filed 7-31-25; 8:45 am]

BILLING CODE 3510-DR-P